DEPARTMENT OF EDUCATION

Application for New Awards; Expanding Opportunity Through Quality Charter Schools Program (CSP)--Grants to Charter Management Organizations for the Replication and Expansion of High-Quality Charter Schools

AGENCY: Office of Innovation and Improvement, Department of Education.

ACTION: Notice.

SUMMARY: The Department of Education (Department) is issuing a notice inviting applications for fiscal year (FY) 2019 for CSP—Grants to Charter Management Organizations for the Replication and Expansion of High-Quality Charter Schools, Catalog of Federal Domestic Assistance (CFDA) number 84.282M.

DATES:

Applications Available: November 30, 2018.

Date of Pre-Application Webinar: Thursday, December 6, 2018, 12:00 p.m., Washington, DC time.

Deadline for Transmittal of Applications: January 10, 2019.

Deadline for Intergovernmental Review: February 28, 2019.

Pre-Application Webinar Information: The Department will hold a pre-application meeting via webinar for prospective applicants on Thursday, December 6, 12:00 p.m., Washington, DC time. Individuals interested in attending this meeting are encouraged to pre-register by emailing their name, organization, and contact information with the subject heading “CMO GRANTS PRE-APPLICATION MEETING” to charterschools@ed.gov. There is no registration fee for attending this meeting.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Eddie Moat, U.S. Department of Education, 400 Maryland Avenue SW, Room 4W259, Washington, DC 20202-5970. Telephone: (202) 401-2266. Email: charterschools@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The major purposes of the CSP are to expand opportunities for all students, particularly traditionally underserved students, to attend charter schools and meet challenging State academic standards; provide financial assistance for the planning, program design, and initial implementation of public charter schools; increase the number of high-quality charter schools ¹ available to students across the United States; evaluate the impact of charter schools on student achievement, families, and communities; share best practices between charter schools and other public schools; encourage States to provide facilities support to charter schools; and support efforts to strengthen the charter school authorizing process. Through CSP Grants to Charter Management Organizations for the Replication and Expansion of High-Quality Charter Schools (CFDA number 84.282M) (also referred to as CMO [i.e., Charter Management Organization] grants or the CMO grant program), the Department provides funds to charter management organizations (CMOs) on a competitive basis to enable them to replicate or expand one or more high-quality charter schools. Grant funds may be used to expand the enrollment of one or more existing high-quality charter schools, or to replicate one or more new charter schools that are based on an existing, high-quality charter school model.

¹ Italicized terms are defined in the Definitions section of this notice.

Background: The CMO grant program is intended to support high-quality charter schools that are operated by high-performing CMOs seeking to broaden and increase their impact on student achievement. Since FY 2010, the Department has awarded almost 80 new CMO grants, resulting in a portfolio of high-quality CMOs using Federal funds to replicate and expand their successful charter school models to serve greater numbers of students, particularly educationally disadvantaged students.

We have published elsewhere in this issue of the Federal Register a notice of final priorities, requirements, definitions, and selection criteria (NFP) for use in this and future CMO competitions. The NFP aligns with the Elementary and Secondary Education Act of 1965, as amended by the Every Student Succeeds Act (ESEA), and clarifies key statutory provisions. In the FY 2019 CMO competition, we are using several priorities from the NFP and one priority from the Education Department General Administrative Regulations.

First, applicants must choose to submit their applications under one of two absolute priorities—Absolute Priority 1—Rural Community or Absolute Priority 2—Low-Income Demographic. A major purpose of this program is to replicate and expand high-quality charter schools that serve educationally disadvantaged students. Students living in rural communities often have few high-quality educational options and face unique challenges. Similarly, we believe it is critical to ensure that students who are individuals from low-income families, particularly such students who attend schools with high percentages of students who are individuals from low-income families, have access to multiple high-quality educational options. Accordingly, in order to receive a grant under this competition, applicants must demonstrate that they will replicate or expand one or more high-quality charter schools in a rural community, or operate or manage charter schools with student bodies that are comprised of at least 40 percent of students who are individuals from low-income families.

This competition also includes five competitive preference priorities. First, we encourage applicants to propose projects that focus on replicating or expanding high-quality charter schools with an intentional focus on racially and socioeconomically diverse student bodies, consistent with nondiscrimination requirements contained in the U.S. Constitution and Federal civil rights laws.

Second, we encourage applicants to propose to reopen one or more academically poor-performing public schools as charter schools, based on a successful charter school model. In order to receive points, an applicant must ensure that the replicated high-quality charter school maintains a student body population that is demographically similar to that of the academically poor-performing public school, consistent with nondiscrimination requirements in the U.S. Constitution and Federal civil rights laws. In accordance with the most recent version of the Department's Charter Schools Program Nonregulatory Guidance (issued in January 2014),² grantees may exempt from any admissions lotteries students who are enrolled in a public school, including an academically poor-performing public school, at the time it is reopened as a public charter school, as permissible under State law.

² See: http://www2.ed.gov/programs/charter/fy14cspnonregguidance.doc.

Third, we encourage applicants to propose to replicate or expand high-quality charter schools that serve high school students. To meet this priority, applicants must demonstrate that they will prepare students for postsecondary education and provide support for their graduates to enroll and persist in, and obtain a degree or certificate from, postsecondary education institutions. In addition, to meet this priority, applicants must propose one or more specific performance measures that will provide valid and reliable information on their students' progress to and through postsecondary education institutions.

Fourth, we encourage applications from eligible entities that would replicate or expand high-quality charter schools that are designed to meet the unique educational needs of Native American students, consistent with nondiscrimination requirements in the U.S. Constitution and Federal civil rights laws. In order to meet this priority, an applicant must submit a letter of support from an Indian Tribe or Indian organization in the community where the charter school will be located, meaningfully collaborate with such Indian Tribe or Indian organization, and propose to replicate or expand one or more high-quality charter schools with a mission and project focus that addresses the unique educational needs of Native American students, such as through the use of instruction that reflects and preserves Native American language, culture, and history.

Finally, we encourage novice applicants to apply.

Priorities: This notice includes two absolute priorities and five competitive preference priorities. The absolute priorities and Competitive Preference Priorities 1-4 are from the NFP for this program published elsewhere in this issue of the Federal Register. Competitive Preference Priority 5 is from 34 CFR 75.225.

Absolute Priorities: For FY 2019 and any subsequent year in which we make awards from the list of unfunded applications from this competition, these priorities are absolute priorities. Under 34 CFR 75.105(c)(3), we consider only applications that meet one of these priorities.

Each of these absolute priorities constitutes its own funding category. Applicants may propose projects that address both absolute priorities, but must clearly indicate under which absolute priority they are officially applying. The Secretary intends to award grants under each absolute priority for which applications of sufficient quality are submitted.

The priorities are:

Absolute Priority 1—Rural Community.

Under this priority, applicants must propose to replicate or expand one or more high-quality charter schools in a rural community.

Absolute Priority 2—Low-Income Demographic.

Under this priority, applicants must demonstrate that at least 40 percent of the students across all of the charter schools the applicant operates or manages are individuals from low-income families, and that the applicant will maintain the same, or a substantially similar, percentage of such students across all of its charter schools during the grant period.

Competitive Preference Priorities: These priorities are competitive preference priorities. Under 34 CFR 75.105(c)(2)(i), we will award up to an additional three points to an application that addresses Competitive Preference Priority 1, up to an additional three points to an application that addresses Competitive Preference Priority 2, up to an additional three points to an application that addresses Competitive Preference Priority 3, up to an additional three points to an application that addresses Competitive Preference Priority 4, and an additional three points to an application that meets Competitive Preference Priority 5. The maximum number of competitive preference priority points an application can receive for this competition is 15.

These priorities are:

Competitive Preference Priority 1—Promoting Diversity. (up to 3 points)

Under this priority, applicants must propose to replicate or expand high-quality charter schools that have an intentional focus on recruiting students from racially and socioeconomically diverse backgrounds and maintaining racially and socioeconomically diverse student bodies in those charter schools, consistent with nondiscrimination requirements contained in the U.S. Constitution and Federal civil rights laws.

Competitive Preference Priority 2—Reopening Academically Poor-performing Public Schools as Charter Schools. (up to 3 points)

Under this priority, applicants must—

(i) Demonstrate past success working with one or more academically poor-performing public schools or schools that previously were designated as persistently lowest-achieving schools or priority schools under the former School Improvement Grant program or in States that exercised ESEA flexibility, respectively, under the ESEA, as amended by the No Child Left Behind Act of 2001 (NCLB); and

(ii) Propose to use grant funds under this program to reopen one or more academically poor-performing public schools as charter schools during the project period by—

(A) Replicating one or more high-quality charter schools based on a successful charter school model for which the applicant has provided evidence of success; and

(B) Targeting a demographically similar student population in the replicated charter schools as was served by the academically poor-performing public schools, consistent with nondiscrimination requirements contained in the U.S. Constitution and Federal civil rights laws.

Competitive Preference Priority 3—High School Students. (up to 3 points)

Under this priority, applicants must propose to—

(i) Replicate or expand high-quality charter schools to serve high school students, including educationally disadvantaged students;

(ii) Prepare students, including educationally disadvantaged students, in those schools for enrollment in postsecondary education institutions through activities such as, but not limited to, accelerated learning programs (including Advanced Placement and International Baccalaureate courses and programs, dual or concurrent enrollment programs, and early college high schools), college counseling, career and technical education programs, career counseling, internships, work-based learning programs (such as apprenticeships), assisting students in the college admissions and financial aid application processes, and preparing students to take standardized college admissions tests;

(iii) Provide support for students, including educationally disadvantaged students, who graduate from those schools and enroll in postsecondary education institutions in persisting in, and attaining a degree or certificate from, such institutions, through activities such as, but not limited to, mentorships, ongoing assistance with the financial aid application process, and establishing or strengthening peer support systems for such students attending the same institution; and

(iv) Propose one or more project-specific performance measures, including aligned leading indicators or other interim milestones, that will provide valid and reliable information about the applicant's progress in preparing students, including educationally disadvantaged students, for enrollment in postsecondary education institutions and in supporting those students in persisting in and attaining a degree or certificate from such institutions. An applicant addressing this priority and receiving a CMO grant must provide data that are responsive to the measure(s), including performance targets, in its annual performance reports to the Department.

(v) For purposes of this priority, postsecondary education institutions include institutions of higher education, as defined in section 8101(29) of the ESEA, and one-year training programs that meet the requirements of section 101(b)(1) of the Higher Education Act of 1965, as amended (HEA).

Competitive Preference Priority 4—Replicating or Expanding High-quality Charter Schools to Serve Native American Students. (up to 3 points)

Under this priority, applicants must—

(i) Propose to replicate or expand one or more high-quality charter schools that—

(A) Utilize targeted outreach and recruitment in order to serve a high proportion of Native American students, consistent with nondiscrimination requirements contained in the U.S. Constitution and Federal civil rights laws;

(B) Have a mission and focus that will address the unique educational needs of Native American students, such as through the use of instructional programs and teaching methods that reflect and preserve Native American language, culture, and history; and

(C) Have a governing board with a substantial percentage of members who are members of Indian Tribes or Indian organizations located within the area to be served by the replicated or expanded charter school;

(ii) Submit a letter of support from at least one Indian Tribe or Indian organization located within the area to be served by the replicated or expanded charter school; and

(iii) Meaningfully collaborate with the Indian Tribe(s) or Indian organization(s) from which the applicant has received a letter of support in a timely, active, and ongoing manner with respect to the development and implementation of the educational program at the charter school.

Competitive Preference Priority 5—Novice Applicants. (0 or 3 points)

This priority is for applications submitted by novice applicants.

Definitions:

The following definitions are from sections 4310 and 8101 of the ESEA, 34 CFR 75.225 and 77.1, and the NFP.

Academically poor-performing public school means:

(a) A school identified by the State for comprehensive support and improvement under section 1111(c)(4)(D)(i) of the ESEA; or

(b) A public school otherwise identified by the State or, in the case of a charter school, its authorized public chartering agency, as similarly academically poor-performing. (NFP)

Ambitious means promoting continued, meaningful improvement for program participants or for other individuals or entities affected by the grant, or representing a significant advancement in the field of education research, practices, or methodologies. When used to describe a performance target, whether a performance target is ambitious depends upon the context of the relevant performance measure and the baseline for that measure. (34 CFR 77.1)

Authorized public chartering agency means a State educational agency, local educational agency, or other public entity that has the authority pursuant to State law and approved by the Secretary to authorize or approve a charter school. (Section 4310(1) of the ESEA)

Baseline means the starting point from which performance is measured and targets are set. (34 CFR 77.1)

Charter management organization means a nonprofit organization that operates or manages a network of charter schools linked by centralized support, operations, and oversight. (Section 4310(3) of the ESEA)

Charter school means a public school that—

(i) In accordance with a specific State statute authorizing the granting of charters to schools, is exempt from significant State or local rules that inhibit the flexible operation and management of public schools, but not from any rules relating to the other requirements of this paragraph;

(ii) Is created by a developer as a public school, or is adapted by a developer from an existing public school, and is operated under public supervision and direction;

(iii) Operates in pursuit of a specific set of educational objectives determined by the school's developer and agreed to by the authorized public chartering agency;

(iv) Provides a program of elementary or secondary education, or both;

(v) Is nonsectarian in its programs, admissions policies, employment practices, and all other operations, and is not affiliated with a sectarian school or religious institution;

(vi) Does not charge tuition;

(vii) Complies with the Age Discrimination Act of 1975, title VI of the Civil Rights Act of 1964, title IX of the Education Amendments of 1972, section 504 of the Rehabilitation Act of 1973, the Americans with Disabilities Act of 1990 (42 U.S.C. 12101 et seq.), section 444 of the General Education Provisions Act (20 U.S.C. 1232g) (commonly referred to as the “Family Educational Rights and Privacy Act of 1974”), and part B of the Individuals with Disabilities Education Act;

(viii) Is a school to which parents choose to send their children, and that—

(A) Admits students on the basis of a lottery, consistent with section 4303(c)(3)(A), if more students apply for admission than can be accommodated; or

(B) In the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in clause (A);

(ix) Agrees to comply with the same Federal and State audit requirements as do other elementary schools and secondary schools in the State, unless such State audit requirements are waived by the State;

(x) Meets all applicable Federal, State, and local health and safety requirements;

(xi) Operates in accordance with State law;

(xii) Has a written performance contract with the authorized public chartering agency in the State that includes a description of how student performance will be measured in charter schools pursuant to State assessments that are required of other schools and pursuant to any other assessments mutually agreeable to the authorized public chartering agency and the charter school; and

(xiii) May serve students in early childhood education programs or postsecondary students. (Section 4310(2) of the ESEA)

Child with a disability means—

(i) In general—

The term “child with a disability” means a child—

(A) With intellectual disabilities, hearing impairments (including deafness), speech or language impairments, visual impairments (including blindness), serious emotional disturbance (referred to in this chapter as “emotional disturbance”), orthopedic impairments, autism, traumatic brain injury, other health impairments, or specific learning disabilities; and

(B) Who, by reason thereof, needs special education and related services.

(ii) Child aged 3 through 9.

The term “child with a disability” for a child aged 3 through 9 (or any subset of that age range, including ages 3 through 5), may, at the discretion of the State and the local educational agency, include a child—

(A) Experiencing developmental delays, as defined by the State and as measured by appropriate diagnostic instruments and procedures, in 1 or more of the following areas: Physical development; cognitive development; communication development; social or emotional development; or adaptive development; and

(B) Who, by reason thereof, needs special education and related services. (Section 8101(4) of the ESEA)

Educationally disadvantaged student means a student in one or more of the categories described in section 1115(c)(2) of the ESEA, which include children who are economically disadvantaged, students who are children with disabilities, migrant students, English learners, neglected or delinquent students, homeless students, and students who are in foster care. (NFP)

Expand, when used with respect to a high-quality charter school, means to significantly increase enrollment or add one or more grades to the high-quality charter school. (Section 4310(7) of the ESEA)

High proportion, when used to refer to Native American students, means a fact-specific, case-by-case determination based upon the unique circumstances of a particular charter school or proposed charter school. The Secretary considers “high proportion” to include a majority of Native American students. In addition, the Secretary may determine that less than a majority of Native American students constitutes a “high proportion” based on the unique circumstances of a particular charter school or proposed charter school, as described in the application for funds. (NFP)

High-quality charter school means a charter school that—

(a) Shows evidence of strong academic results, which may include strong student academic growth, as determined by a State;

(b) Has no significant issues in the areas of student safety, financial and operational management, or statutory or regulatory compliance;

(c) Has demonstrated success in significantly increasing student academic achievement, including graduation rates where applicable, for all students served by the charter school; and

(d) Has demonstrated success in increasing student academic achievement, including graduation rates where applicable, for each of the subgroups of students, as defined in section 1111(c)(2), except that such demonstration is not required in a case in which the number of students in a group is insufficient to yield statistically reliable information or the results would reveal personally identifiable information about an individual student. (Section 4310(8) of the ESEA)

Indian organization means an organization that—

(a) Is legally established—

(i) By Tribal or inter-Tribal charter or in accordance with State or Tribal law; and

(ii) With appropriate constitution, by-laws, or articles of incorporation;

(b) Includes in its purposes the promotion of the education of Indians;

(c) Is controlled by a governing board, the majority of which is Indian;

(d) If located on an Indian reservation, operates with the sanction or by charter of the governing body of that reservation;

(e) Is neither an organization or subdivision of, nor under the direct control of, any institution of higher education; and

(f) Is not an agency of State or local government. (NFP)

Indian Tribe means a federally-recognized or a State-recognized Tribe. (NFP)

Individual from a low-income family means an individual who is determined by a State educational agency or local educational agency to be a child from a low-income family on the basis of (a) data used by the Secretary to determine allocations under section 1124 of the ESEA, (b) data on children eligible for free or reduced-price lunches under the Richard B. Russell National School Lunch Act, (c) data on children in families receiving assistance under part A of title IV of the Social Security Act, (d) data on children eligible to receive medical assistance under the Medicaid program under title XIX of the Social Security Act, or (e) an alternate method that combines or extrapolates from the data in items (a) through (d) of this definition. (NFP)

Institution of higher education means an educational institution in any State that—

(i) Admits as regular students only persons having a certificate of graduation from a school providing secondary education, or the recognized equivalent of such a certificate, or persons who meet the requirements of section 484(d) of the HEA;

(ii) Is legally authorized within such State to provide a program of education beyond secondary education;

(iii) Provides an educational program for which the institution awards a bachelor's degree or provides not less than a 2-year program that is acceptable for full credit toward such a degree, or awards a degree that is acceptable for admission to a graduate or professional degree program, subject to review and approval by the Secretary;

(iv) Is a public or other nonprofit institution; and

(v) Is accredited by a nationally recognized accrediting agency or association, or if not so accredited, is an institution that has been granted preaccreditation status by such an agency or association that has been recognized by the Secretary for the granting of preaccreditation status, and the Secretary has determined that there is satisfactory assurance that the institution will meet the accreditation standards of such an agency or association within a reasonable time. (NFP)

Logic model (also referred to as theory of action) means a framework that identifies key project components of the proposed project (i.e., the active “ingredients” that are hypothesized to be critical to achieving the relevant outcomes) and describes the theoretical and operational relationships among the key project components and relevant outcomes. (34 CFR 77.1)

Native American means an Indian (including an Alaska Native), Native Hawaiian, or Native American Pacific Islander. (NFP)

Native American language means the historical, traditional languages spoken by Native Americans. (NFP)

Novice applicant means—

(a) Any applicant for a grant from the Department that—

(i) Has never received a grant or subgrant under the program from which it seeks funding;

(ii) Has never been a member of a group application, submitted in accordance with 34 CFR 75.127-75.129, that received a grant under the program from which it seeks funding; and

(iii) Has not had an active discretionary grant from the Federal Government in the five years before the deadline date for applications for new awards under the program.

(b) In the case of a group application submitted in accordance with §§ 75.127-75.129, a group that includes only parties that meet the requirements of paragraph (a)(i) of this section. (34 CFR 75.225)

Performance measure means any quantitative indicator, statistic, or metric used to gauge program or project performance. (34 CFR 77.1)

Performance target means a level of performance that an applicant would seek to meet during the course of a project or as a result of a project. (34 CFR 77.1)

Replicate, when used with respect to a high-quality charter school, means to open a new charter school, or a new campus of a high-quality charter school, based on the educational model of an existing high-quality charter school, under an existing charter or an additional charter, if permitted or required by State law. (Section 4310(9) of the ESEA)

Rural community means a community that is served by a local educational agency that is eligible to apply for funds under the Small Rural School Achievement (SRSA) program or the Rural and Low-Income School (RLIS) program authorized under title V, part B of the ESEA. Applicants may determine whether a particular local educational agency is eligible for these programs by referring to information on the following Department websites. For the SRSA program: www2.ed.gov/programs/reapsrsa/eligible16/index.html. For the RLIS program: www2.ed.gov/programs/reaprlisp/eligibility.html. (NFP)

Application Requirements:

Applications for CSP CMO grant funds must address the following application requirements. These requirements are from the NFP and sections 4303 ³ and 4305 of the ESEA. The source of each requirement is provided in parentheses following each requirement. An applicant must respond to requirement (a) in a stand-alone section of the application or in an appendix. For all other application requirements, an applicant may choose to respond to each requirement separately or in the context of the applicant's responses to the selection criteria in section V.2 of this notice.

³ Per section 4305(c) of the ESEA, CMO grants shall have the same terms and conditions as grants awarded to State entities under section 4303. For clarity, the Department has replaced the term “State entity” with “applicant” in the requirements that derive from section 4303.

Applicants for funds under this program must—

(a) Describe the applicant's objectives in running a quality charter school program and how the program will be carried out, including—

(i) A description of how the applicant will ensure that charter schools receiving funds under this program meet the educational needs of their students, including children with disabilities and English learners. (Section 4303(f)(1)(A)(x) of the ESEA)

(ii) A description of how the applicant will ensure that each charter school receiving funds under this program has considered and planned for the transportation needs of the school's students. (Section 4303(f)(1)(E) of the ESEA)

(b) For each charter school currently operated or managed by the applicant, provide—

(i) Student assessment results for all students and for each subgroup of students described in section 1111(c)(2);

(ii) Attendance and student retention rates for the most recently completed school year and, if applicable, the most recent available four-year adjusted cohort graduation rates and extended-year adjusted cohort graduation rates; and

(iii) Information on any significant compliance and management issues encountered within the last three school years by any school operated or managed by the eligible entity, including in the areas of student safety and finance. (Section 4305(b)(3)(A) of the ESEA)

(c) Describe the educational program that the applicant will implement in each charter school receiving funding under this program, including—

(i) Information on how the program will enable all students to meet the challenging State academic standards;

(ii) The grade levels or ages of students who will be served; and

(iii) The instructional practices that will be used. (Section 4305(b)(3)(B)(ii) of the ESEA)

(d) Demonstrate that the applicant currently operates or manages more than one charter school. For purposes of this program, multiple charter schools are considered to be separate schools if each school—

(i) Meets each element of the definition of “charter school” under section 4310(2) of the ESEA; and

(ii) Is treated as a separate school by its authorized public chartering agency and the State in which the charter school is located, including for purposes of accountability and reporting under title I, part A of the ESEA. (NFP)

(e) Provide information regarding any compliance issues, and how they were resolved, for any charter schools operated or managed by the applicant that have—

(i) Closed;

(ii) Had their charter(s) revoked due to problems with statutory or regulatory compliance, including compliance with sections 4310(2)(G) and (J) of the ESEA; or

(iii) Had their affiliation with the applicant revoked or terminated, including through voluntary disaffiliation. (NFP)

(f) Provide a complete logic model for the grant project. The logic model must include the applicant's objectives for replicating or expanding one or more high-quality charter schools with funding under this program, including the number of high-quality charter schools the applicant proposes to replicate or expand. (NFP)

(g) If the applicant currently operates, or is proposing to replicate or expand a single-sex charter school or coeducational charter school that provides a single-sex class or extracurricular activity (collectively referred to as a “single-sex educational program”), demonstrate that the existing or proposed single-sex educational program is in compliance with title IX of the Education Amendments of 1972 (20 U.S.C. 1681, et seq.) and its implementing regulations, including 34 CFR 106.34. (NFP)

(h) Describe how the applicant currently operates or manages the high-quality charter schools for which it has presented evidence of success and how the proposed replicated or expanded charter schools will be operated or managed, including the legal relationship between the applicant and its schools. If a legal entity other than the applicant has entered or will enter into a performance contract with an authorized public chartering agency to operate or manage one or more of the applicant's schools, the applicant must also describe its relationship with that entity. (NFP)

(i) Describe how the applicant will solicit and consider input from parents and other members of the community on the implementation and operation of each replicated or expanded charter school, including in the area of school governance. (NFP)

(j) Describe the lottery and enrollment procedures that will be used for each replicated or expanded charter school if more students apply for admission than can be accommodated, including how any proposed weighted lotteries comply with section 4303(c)(3)(A) of the ESEA. (NFP)

(k) Describe how the applicant will ensure that all eligible children with disabilities receive a free appropriate public education in accordance with Part B of the Individuals with Disabilities Education Act (IDEA). (NFP)

(l) Describe how the proposed project will assist educationally disadvantaged students in mastering challenging State academic standards. (NFP)

(m) Provide a budget narrative, aligned with the activities, target grant project outputs, and outcomes described in the logic model, that outlines how grant funds will be expended to carry out planned activities. (NFP)

(n) Provide the applicant's most recent independently audited financial statements prepared in accordance with generally accepted accounting principles. (NFP)

(o) Describe the applicant's policies and procedures to assist students enrolled in a charter school that closes or loses its charter to attend other high-quality schools. (NFP)

(p) Provide—

(i) A request and justification for waivers of any Federal statutory or regulatory provisions that the applicant believes are necessary for the successful operation of the charter schools to be replicated or expanded; and

(ii) A description of any State or local rules, generally applicable to public schools, that will be waived, or otherwise not apply, to such schools. (NFP)

Assurances.

Applications for CSP CMO grant funds must provide the following assurances. These assurances are from sections 4303 and 4305 of the ESEA. The source of each assurance is provided in parentheses following each assurance.

Applicants for funds under this program must provide assurances that—

(a) The grantee will support charter schools in meeting the educational needs of their students, as described in section 4303(f)(1)(A)(x) of the ESEA. (Section 4303(f)(2)(B) of the ESEA)

(b) The grantee will ensure that each charter school receiving funds under this program makes publicly available, consistent with the dissemination requirements of the annual State report card under section 1111(h) of the ESEA, including on the website of the school, information to help parents make informed decisions about the education options available to their children, including—

(i) Information on the educational program;

(ii) Student support services;

(iii) Parent contract requirements (as applicable), including any financial obligations or fees;

(iv) Enrollment criteria (as applicable); and

(v) Annual performance and enrollment data for each of the subgroups of students, as defined in section 1111(c)(2) of the ESEA, except that such disaggregation of performance and enrollment data shall not be required in a case in which the number of students in a group is insufficient to yield statistically reliable information or the results would reveal personally identifiable information about an individual student. (Section 4303(f)(2)(G) of the ESEA)

(c) The eligible entity has sufficient procedures in effect to ensure timely closure of low-performing or financially mismanaged charter schools and clear plans and procedures in effect for the students in such schools to attend other high-quality schools. (Section 4305(b)(3)(C) of the ESEA)

Program Authority: Title IV, Part C of the ESEA, as amended.

Applicable Regulations: (a) The Education Department General Administrative Regulations in 34 CFR parts 75, 76, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The NFP.

II. Award Information

Type of Award: Discretionary grants.

Estimated Available Funds: $90,000,000.

Estimated Range of Awards: $250,000-$15,000,000 per year.

Estimated Average Size of Awards: $2,000,000 per year.

Maximum Award: See Reasonable and Necessary Costs in section III.4.(a) for information regarding the maximum amount of funds that may be awarded per new school seat and per new school.

Estimated Number of Awards: 20-30.

Note: The Department is not bound by any estimates in this notice. The estimated range and average size of awards are based on a single 12-month budget period. We may use available funds to support multiple 12-month budget periods for one or more grantees.

Project Period: Up to 60 months.

III. Eligibility Information

1. Eligible Applicants: CMOs. Eligible applicants may apply individually or as part of a group or consortium.

2. Cost Sharing or Matching: This competition does not require cost sharing or matching.

3. Subgrantees: A grantee under this program may not award subgrants.

4. Other: (a) Reasonable and Necessary Costs: The Secretary may elect to impose maximum limits on the amount of grant funds that may be awarded per charter school replicated, per charter school expanded, or per new school seat created.

For this competition, the maximum limit of grant funds that may be awarded per new or expanded charter school is $1,500,000.

Note: Applicants must ensure that all costs included in the proposed budget are authorized under the CSP and are reasonable and necessary in light of the goals and objectives of the proposed project. Any costs determined by the Secretary to be unauthorized, or otherwise unreasonable or unnecessary, will be removed from the final approved budget.

(b) Other CSP Grants: A charter school that previously has received CSP funds for replication or expansion under this program, or for opening or preparing to operate a new charter school, replication, or expansion under the CSP Grants to State Entities (State Entities) program (CFDA number 84.282A) or CSP Grants to Developers for the Opening of New Charter Schools and for the Replication and Expansion of High-quality Charter Schools (Developers) program (CFDA numbers 84.282B and 84.282E), may not use funds under this grant to carry out the same activities. However, such charter school may be eligible to receive funds under this competition to expand the charter school beyond the existing grade levels or student count.

Likewise, a charter school that receives funds under this competition is ineligible to receive funds to carry out the same activities under the State Entities program (CFDA number 84.282A) or Developers program (CFDA numbers 84.282B and 84.282E), including for opening or preparing to operate a new charter school, replication, or expansion.

(c) Costs for Evaluation: Consistent with 34 CFR 75.590, CMO grant funds may be used to cover post-award costs associated with an evaluation described in response to Selection Criterion (c) in this notice, provided that such costs are reasonable and necessary to meet the objectives of the approved project.

IV. Application and Submission Information

1. Application Submission Instructions: For information on how to submit an application, please refer to our Common Instructions for Applicants to Department of Education Discretionary Grant Programs, published in the Federal Register on February 12, 2018 (83 FR 6003) and available at www.gpo.gov/fdsys/pkg/FR-2018-02-12/pdf/2018-02558.pdf.

2. Submission of Proprietary Information: Given the types of projects that may be proposed in applications for the CMO grant competition, your application may include business information that you consider proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this competition.

4. Funding Restrictions: Grantees under this program must use the grant funds to replicate or expand the charter school model or models for which the applicant has presented evidence of success. Specifically, grant funds must be used to carry out allowable activities, as described in section 4305(b)(1) of the ESEA. In addition, grant funds must be used to carry out one or more of the activities described in section 4303(h), which include—

(a) Preparing teachers, school leaders, and specialized instructional support personnel, including through paying costs associated with—

(i) Providing professional development; and

(ii) Hiring and compensating, during the applicant's planning period specified in the application for funds, one or more of the following:

(A) Teachers,

(B) School leaders, and

(C) Specialized instructional support personnel.

(b) Acquiring supplies, training, equipment (including technology), and educational materials (including developing and acquiring instructional materials).

(c) Carrying out necessary renovations to ensure that a new school building complies with applicable statutes and regulations, and minor facilities repairs (excluding construction).

(d) Providing one-time, startup costs associated with providing transportation to students to and from the charter school.

(e) Carrying out community engagement activities, which may include paying the cost of student and staff recruitment.

(f) Providing for other appropriate, non-sustained costs related to the replication or expansion of high-quality charter schools when such costs cannot be met from other sources.

Further, under section 4305(b)(1) of the ESEA, CMO grant funds must be used to open and prepare for the operation of one or more replicated high-quality charter schools or to expand one or more high-quality charter schools. Within the context of opening and preparing for the operation of one or more replicated high-quality charter schools or expanding one or more high-quality charter schools, a portion of grant funds can be used for appropriate, non-sustained costs associated with the expansion or improvement of the grantee's oversight or management of its charter schools, provided that (i) the specific charter schools being replicated or expanded under the grant are the intended beneficiaries of such expansion or improvement; (ii) such expansion or improvement is intended to improve the grantee's ability to manage or oversee the charter schools being replicated or expanded under the grant; and (iii) the costs cannot be met from other sources. In order to use grant funds for this purpose, an applicant should describe how the proposed costs are necessary to meet the objectives of the project and reasonable in light of the overall cost of the project.

We reference additional regulations outlining funding restrictions in the Applicable Regulations section of this notice.

5. Recommended Page Limit: The application narrative is where you, the applicant, address the selection criteria that reviewers use to evaluate your application. We recommend that you (1) limit the application narrative to no more than 60 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative.

V. Application Review Information

1. Selection Criteria. The selection criteria are from the NFP and 34 CFR 75.210. The source of each selection factor is included in parentheses following each factor. The maximum possible score for addressing all of the criteria in this section is 100 points. The maximum possible score for addressing each criterion is indicated in parentheses following the criterion.

In evaluating an application, the Secretary considers the following criteria:

(a) Quality of the eligible applicant (45 points).

In determining the quality of the eligible applicant, the Secretary considers the following factors:

(i) The extent to which the academic achievement results (including annual student performance on statewide assessments and annual student attendance and retention rates and, where applicable and available, student academic growth, high school graduation rates, college attendance rates, and college persistence rates) for educationally disadvantaged students served by the charter schools operated or managed by the applicant have exceeded the average academic achievement results for such students served by other public schools in the State (15 points). (NFP)

(ii) The extent to which one or more charter schools operated or managed by the applicant have closed; have had a charter revoked due to noncompliance with statutory or regulatory requirements; or have had their affiliation with the applicant revoked or terminated, including through voluntary disaffiliation (15 points). (NFP)

(iii) The extent to which one or more charter schools operated or managed by the applicant have had any significant issues in the area of financial or operational management or student safety, or have otherwise experienced significant problems with statutory or regulatory compliance that could lead to revocation of the school's charter (15 points). (NFP)

(b) Significance of contribution in assisting educationally disadvantaged students (30 points).

In determining the significance of the contribution the proposed project will make in expanding educational opportunities for educationally disadvantaged students and enabling those students to meet challenging State academic standards, the Secretary considers the following factors:

(i) The extent to which charter schools currently operated or managed by the applicant serve educationally disadvantaged students, particularly students with disabilities ⁴ and English learners, at rates comparable to surrounding public schools or, in the case of virtual charter schools, at rates comparable to public schools in the State (15 points). (NFP)

⁴ For purposes of this competition, “students with disabilities” or “student with a disability” has the same meaning as “children with disabilities” or “child with a disability,” respectively, as defined in section 8101(4) of the ESEA (and this NIA). Under section 8101(4), “child with a disability,” has the same meaning given that term in section 602 of the IDEA.

(ii) The quality of the plan to ensure that the charter schools the applicant proposes to replicate or expand will recruit, enroll, and effectively serve educationally disadvantaged students, particularly students with disabilities and English learners (15 points). (NFP)

(c) Quality of the evaluation plan for the proposed project (10 points)

In determining the quality of the evaluation plan for the proposed project, the Secretary considers the extent to which the methods of evaluation include the use of objective performance measures that are clearly related to the intended outcomes of the proposed project, as described in the applicant's logic model, and that will produce quantitative and qualitative data by the end of the grant period. (NFP)

(d) Quality of the management plan and personnel (15 points).

In determining the quality of the applicant's management plan, the Secretary considers the following factors:

(i) The ability of the applicant to sustain the operation of the replicated or expanded charter schools after the grant has ended, as demonstrated by the multi-year financial and operating model required under section 4305(b)(3)(B)(iii) of the ESEA (5 points). (NFP)

(ii) The adequacy of the management plan to achieve the objectives of the proposed project on time and within budget, including clearly defined responsibilities, timelines, and milestones for accomplishing project tasks (5 points). (34 CFR 75.210(g)(2)(i))

(iii) The qualifications, including relevant training and experience, of key project personnel (5 points). (34 CFR 75.210(e)(3)(ii))

2. Review and Selection Process: We remind potential applicants that in reviewing applications under any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (referred to as the Federal Awardee Performance and Integrity Information System (FAPIIS)), accessible through the System for Award Management, or SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: (a) The Secretary has two performance indicators to measure progress towards achieving the purposes of the program, which are discussed elsewhere in this notice. The performance indicators are: (1) The number of charter schools in operation around the Nation and (2) the percentage of fourth- and eighth-grade charter school students who are achieving at or above the proficient level on State assessments in mathematics and reading/language arts. Additionally, the Secretary has established the following measure to examine the efficiency of the CSP: The Federal cost per student in implementing a successful school (defined as a school in operation for three or more consecutive years).

(b) Project-Specific Performance Measures. Applicants must propose project-specific performance measures and performance targets consistent with the objectives of the proposed project. Applications must provide the following information as directed under 34 CFR 75.110(b) and (c):

(1) Performance measures. How each proposed performance measure would accurately measure the performance of the project and how the proposed performance measure would be consistent with the performance measures established for the program funding the competition.

(2) Baseline data. (i) Why each proposed baseline is valid; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

(4) Data collection and reporting. (i) The data collection and reporting methods the applicant would use and why those methods are likely to yield reliable, valid, and meaningful performance data; and (ii) the applicant's capacity to collect and report reliable, valid, and meaningful performance data, as evidenced by high-quality data collection, analysis, and reporting in other projects or research.

All grantees must submit an annual performance report with information that is responsive to these performance measures.

6. Continuation Awards: In making a continuation award under 34 CFR 75.253, the Secretary considers, among other things, whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

7. Project Director's Meeting: Applicants approved for funding under this competition must attend a two-day meeting for project directors at a location to be determined in the continental United States during each year of the project. Applicants may include the cost of attending this meeting as an administrative cost in their proposed budgets.

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of the Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: November 27, 2018.
James C. Blew,
Acting Assistant Deputy Secretary for Innovation and Improvement.

[FR Doc. 2018-26094 Filed 11-29-18; 8:45 am]

BILLING CODE 4000-01-P